SECURITIES AND EXCHANGE COMMISSION

[OMB Control No. 3235-0713]

Agency Information Collection Activities; Submission for OMB Review; Comment Request; Extension: Rule 15Fi-2

Upon Written Request, Copies Available From: Securities and Exchange Commission, Office of FOIA Services, 100 F Street NE, Washington, DC 20549-2736

Notice is hereby given that, pursuant to the Paperwork Reduction Act of 1995 (44 U.S.C. 3501 et seq.), the Securities and Exchange Commission (SEC or “Commission”) is submitting to the Office of Management and Budget (OMB) this request for an extension of the previously approved collection of information in Rule 15Fi-2 (17 CFR 240.15Fi-2) under the Securities Exchange Act of 1934 (“Exchange Act”) (15 U.S.C. 78a et seq.).

Rule 15Fi-2 requires security-based swaps (“SBS”) dealers and major SBS participants (collectively, “SBS Entities”) to provide to their counterparties a trade acknowledgment, to provide prompt verification of the terms provided in a trade acknowledgment of transactions from other SBS Entities, and to have written policies and procedures that are reasonably designed to obtain prompt verification of the terms provided in a trade acknowledgment. The Rule promotes the efficient operation of the SBS market and facilitates market participants' management of their SBS-related risk.

The Commission estimates that approximately 48 entities fit within the definition of SBS dealer, and zero entities fit within the definition of major SBS participant. Thus, we expect that approximately 48 entities will be required to register with the Commission as SBS Entities and will be subject to the trade acknowledgment provision and verification requirements of Rule 15Fi-2. The total estimated annual time burden of Rule 15Fi-2 is 22,848 hours.

An agency may not conduct or sponsor, and a person is not required to respond to, a collection of information unless it displays a currently valid OMB Control Number.

The public may view and comment on this information collection request at: https://www.reginfo.gov/public/do/PRAViewICR?ref_nbr=202512-3235-014 or email comment to MBX.OMB.OIRA.SEC_desk_officer@omb.eop.gov within 30 days of the day after publication of this notice, by April 6, 2026.

February 27, 2026.
Sherry R. Haywood,
Assistant Secretary.

[FR Doc. 2026-04225 Filed 3-3-26; 8:45 am]

BILLING CODE 8011-01-P